DEPARTMENT OF AGRICULTURE

Forest Service

Information Collection; Prince William Sound User Experience Survey

AGENCY: Forest Service, USDA.

ACTION: Notice; request for comment.

SUMMARY: In accordance with the Paperwork Reduction Act of 1995, the Forest Service is seeking comments from all interested individuals and organizations on the new information collection: Prince William Sound User Experience Survey.

DATES: Comments must be received in writing on or before December 31, 2007 to be assured of consideration. Comments received after that date will be considered to the extent practicable.

ADDRESSES: Comments concerning this notice should be addressed to Sara Boario or Aaron Poe, Glacier Ranger District, Chugach National Forest, Forest Service, USDA, P.O. Box 129 Forest Station Road, Girdwood, AK 99587

Comments also may be submitted via facsimile to (907) 783-2094 or by e-mail to: sboario@fs.fed.us and apoe@fs.fed.us.

The public may inspect comments received at Glacier Ranger District, 145 Forest Station Road, Girdwood, Alaska, during normal business hours; 0800-1700 Monday through Friday. Visitors are encouraged to call ahead to (907) 783-3242 to facilitate entry to the building.

FOR FURTHER INFORMATION CONTACT: Sara Boario and Aaron Poe at (907) 783-3242. Individuals who use TDD may call the Federal Relay Service (FRS) at 1-800-877-8339, 24 hours a day, every day of the year, including holidays.

SUPPLEMENTARY INFORMATION: Title: Prince William Sound User Experience Survey.

OMB Number: 0596-New.

Type of Request: New.

Abstract: In 1989, Prince William Sound (PWS), the heart of the Chugach National Forest (CNF), was severely impacted by the Exxon Valdez Oil Spill (EVOS). In the aftermath of the spill, federal and state trustees were awarded criminal and civil restitution funds to help with the recovery (and the evaluation of the recovery) of injured resources and human services, including the recreation/tourism service (still listed as “recovering”). For the current list of injured resources and human services, please visit the Exxon Valdez Oil Spill Trustee Council: http://www.evostc.state.ak.us/Publications/injuredresources.cfm.

The CNF, as the major land-owning federal trustee in PWS, is required and committed to playing an important role in the recovery process. One area that has received less attention by researchers in the past, and is of critical importance to the CNF managers today, is the distribution, behavior and experience of human users throughout the PWS and its impact on EVOS injured resources and human services. Human use in the PWS is increasing, and there is growing concern that increased competition and rapid growth in commercial and independent human use may be threatening EVOS injured resources and human services.

The Prince William Sound User Experience Survey, along with an associated recreation behavior simulation (funded by EVOS federal criminal restitution dollars) will add critical depth to the few existing PWS human use studies by describing the exact nature of user-resource experiences in the PWS, and evaluating the potential for conflict among user groups and displacement due to lingering oil.

Both user experience and conflicts between user groups have significant implications for injured resources and human services recovery. This information is required to make predictions about changing dynamics of human use distribution and intensity. Such predictive power is needed to gain an understanding of the spatial and temporal patterns of recreation/tourism human use relative to EVOS impacted resources and services. The results will inform recovery and restoration activities which have been undertaken by both the EVOS trustees and local resource managers relative to current and projected levels of human use. It also provides an excellent opportunity to assess the recovery of the recreation/tourism human service, injured and redistributed by the EVOS and still listed as “recovering” by the Trustee Council, and whether or how CNF managers can further enhance its recovery.

PWS recreation users will be contacted at harbors in three communities: Whittier, Cordova, and Valdez prior to embarking on their trips. They will be asked to complete a questionnaire during their trip and return it in a self-addressed and stamped envelope. The information will be collected by Forest Service employees and contractors for the University of Arizona.

Data collection efforts will consist of a mapped description (trip diary) of the trip completed; the numbers and types of encounters respondents had with other users during the trip; and user perceptions about experiences relative to expectations prior to the trip. Additionally, limited categorical information will be collected about the mode of transportation and preferred recreation activity in the PWS.

This information will be used to characterize recreation users to the area, as well as experiences of individuals regarding encounters with other human uses. The data will be used by managers to determine use patterns for the PWS, giving decision makers insight into the recovery of injured resources and human services, which were redistributed around the PWS in the aftermath of EVOS. This data will provide managers with the ability to protect and restore EVOS injured resources and human services during a time of increasing human use in the PWS.

Estimate of Annual Burden: 20 minutes.

Type of Respondents: Individuals.

Estimated Annual Number of Respondents: 500.

Estimated Annual Number of Responses per Respondent: One.

Estimated Total Annual Burden on Respondents: 167 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: October 25, 2007.
C.L. Newman, Jr.,
Acting Deputy Chief, NFS.

[FR Doc. E7-21515 Filed 10-31-07; 8:45 am]

BILLING CODE 3410-11-P